DEPARTMENT OF HEALTH AND HUMAN SERVICES

Administration for Children and Families

Proposed Information Collection Activity; Plan for Foster Care and Adoption Assistance—Title IV-E (OMB #0970-0433)

AGENCY: Children's Bureau, Administration for Children and Families, HHS.

ACTION: Request for public comment.

SUMMARY: The Children's Bureau (CB), Administration for Children and Families (ACF), U.S. Department of Health and Human Services (HHS), is requesting a 3-year extension of the Plan for Foster Care and Adoption Assistance—Title IV-E, (OMB#: 0970-0433, expiration 11/30/2022). This plan also incorporates the plan requirements for the optional Guardianship Assistance Program, the Title IV-E prevention services plan and the Title IV-E Kinship Navigator program. There are no changes requested to the form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: A title IV-E plan is required by section 471, Part IV-E of the Social Security Act (the Act) for each public child welfare agency requesting federal funding for foster care, adoption assistance, and guardianship assistance under the Act. Section 479B of the Act provides for an Indian tribe, tribal organization, or tribal consortium (tribe) to operate a title IV-E program in the same manner as a state with minimal exceptions. The tribe must have an approved Title IV-E Plan. The Title IV-E Plan provides assurances the programs will be administered in conformity with the specific requirements stipulated in Title IV-E. The plan must include all applicable state or tribal statutory, regulatory, or policy references and citations for each requirement as well as supporting documentation. A title IV-E agency may use the pre-print format prepared by CB, or a different format, on the condition that the format used includes all of the Title IV-E Plan requirements.

Title IV-E of the Act was amended by Public Law 115-123, which included the Family First Prevention Services Act (FFPSA). FFPSA authorized new optional Title IV-E funding for time-limited (1 year) prevention services for mental health/substance abuse and in-home parent skill-based programs for (1) a child who is a candidate for foster care (as defined in section 475(13) of the Act), (2) pregnant/parenting foster youth, and (3) the parents/kin caregivers of those children and youth (sections 471(e), 474(a)(6), and 475(13) of the Act). Title IV-E prevention services must be rated as promising, supported, or well supported in accordance with HHS criteria and be approved by HHS (section 471(e)(4)(C) of the Act) as part of the Title IV-E Prevention Services Clearinghouse (section 476(d)(2) of the Act). A state or tribal Title IV-E agency electing to participate in the program must submit a 5-year Title IV-E Prevention Program Plan that meets the statutory requirements. (See Program Instructions ACYF-CB-PI-18-09 and ACYF-CB-PI-18-10 for more information.)

FFPSA also amended section 474(a)(7) of the Act to reimburse state and tribal Title IV-E agencies for a portion of the costs of operating kinship navigator programs that meet certain criteria. To qualify for funding under the Title IV-E Kinship Navigator Program, the program must meet the requirements of a kinship navigator program described in section 427(a)(1) of the Act. The Kinship Navigator Program must meet practice criteria of promising, supported, or well-supported in accordance with HHS criteria and be approved by HHS (section 471(e)(4)(C) of the Act). To begin participation in the Title IV-E Kinship Navigator Program, a Title IV-E agency must submit an attachment to its Title IV-E plan that specifies the kinship navigator model it has chosen to implement and the date on which the provision of program services began or will begin, and provide an assurance that the model meets the requirements of section 427(a)(1) of the Act, as well as a brief narrative describing how the program will be operated. (Please see Program Instruction ACYF-CB-PI-18-11 for additional information: https://www.acf.hhs.gov/cb/policy-guidance/pi-18-11.)

Respondents: State and tribal Title IV- E agencies.

Annual Burden Estimates
Instrument | Annual number of respondents | Annual number of responses per respondent | Average burden hours per response | Annual burden hours
Title IV-E Plan | 17 | 1 | 16 | 272
Title IV-E prevention services plan | 12 | 1 | 5 | 60
Attachment to Title IV-E plan for Kinship Navigator Program | 15 | 1 | 1 | 15

Estimated Total Annual Burden Hours: 347.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-E of the Social Security Act as amended by Public Law 115- 123 enacted February 9, 2018.

Mary B. Jones,
ACF/OPRE Certifying Officer.

[FR Doc. 2022-05194 Filed 3-10-22; 8:45 am]

BILLING CODE 4184-01-P